DEPARTMENT OF TRANSPORTATION

Federal Highway Administration

Environmental Impact Statement: Erie and Genesee Counties, New York

AGENCY: Federal Highway Administration (FHWA), New York State Department of Transportation (NYSDOT), New York State Thruway Authority (NYSTA).

ACTION: Notice of intent.

SUMMARY: The FHWA is issuing this notice to advise the public that an environmental impact statement will be prepared for a proposed highway toll barrier project in Erie and Genesee Counties, New York.

FOR FURTHER INFORMATION CONTACT:

Harold J. Brown, Division Administrator, Federal Highway Administration, New York Division, Leo W. O'Brien Federal Building, 9th Floor, Clinton Avenue and North Pearl Street, Albany, New York 12207, Telephone (518) 431-4127

Brian O. Rowback, Regional Director, New York State Department of Transportation Region 5, 125 Main Street, Buffalo, New York 14203, Telephone: (716) 847-3238

or

Christopher A. Waite, Director, Office of Design, New York State Thruway Authority, 200 Southern Boulevard, Albany, New York 12209, Telephone (518) 436-2916.

SUPPLEMENTARY INFORMATION: The FHWA, in cooperation with the New York State Thruway Authority (NYSTA) and the New York State Department of Transportation, will be preparing an Environmental Impact Statement (EIS) on a proposal to relocate the existing New York State Thruway (Interstate 90) “Williamsville” Toll Barrier from the Town of Amherst, Erie County, New York. The proposal would involve construction of 1.2 kilometers of approach/leave roadways, new toll booths/barriers and administration building and an access connection to the local highway system.

The toll barrier relocation is considered necessary because of safety and operational problems at the existing location, recurring congestion and community concerns over noise and air pollution. The objectives of the proposed action are to provide a toll barrier that has sufficient capacity to ensure suitable customer service, maintains public and employee safety, incorporates advances technologies, and addresses impacts to natural and human resources.

Alternatives under consideration include (1) taking no action; (2) improving the toll barrier at its current location; and (3) replacing the toll barrier with a new facility to be constructed at a suitable location between Interchange 49 (Transit Road) in the Town of Cheektowaga, Erie County, New York and Interchange 48A (Pembroke) in the Town of Pembroke, Genesee County, New York. The latter alternative may also involve the elimination of the existing toll facility at Interchange 49.

Letters describing the proposed action and soliciting comments will be sent to appropriate Federal, State and local agencies, and to private organizations and citizens who have previously expressed interest in this proposal. A formal NEPA scoping meeting will be held between February and March 2000. Public notice of the date(s) and location(s) will be given. In addition, a public hearing will be held in the future at a time and place to be announced. The draft EIS, when prepared, will be available for public and agency review and comment prior to the public hearing.

To ensure that the full range of issues related to this proposed action are addressed and all significant issues identified, comments and suggestions are invited from all interested parties. Comments or questions concerning this proposed action and the EIS should be directed to the FHWA, NYSTA or NYSDOT at the addresses provided above.

(Catalog of Federal Domestic Assistance Program Number 20.205, Highway Research, Planning and Construction. The regulations implementing Executive Order 12372 regarding intergovernmental consultation on Federal programs and activities apply to this program)

Authority: 23 U.S.C. 315; 23 CFR 771.123.

Issued on: February 4, 2000.
Douglas P. Conlan,
District Engineer, Federal Highway Administration, Albany, New York.

[FR Doc. 00-3592 Filed 2-15-00; 8:45 am]

BILLING CODE 4910-22-M